DEPARTMENT OF TRANSPORTATION

Federal Aviation Administration

14 CFR Part 39

[Docket No. FAA-2014-0433; Directorate Identifier 94-ANE-39-AD]

RIN 2120-AA64

Airworthiness Directives; Rolls-Royce plc Turbofan Engines

AGENCY: Federal Aviation Administration (FAA), DOT.

ACTION: Notice of proposed rulemaking (NPRM).

SUMMARY: We propose to supersede airworthiness directive (AD) 98-07-07, which applies to all Rolls-Royce plc (RR) RB211-535E4 and RB211-535E4-B turbofan engines. AD 98-07-07 requires removing certain part number (P/N) low-pressure (LP) fuel filter-to-high-pressure (HP) fuel pump tube assemblies and installing flexible LP fuel filter-to-HP fuel pump tube assemblies. Since we issued AD 98-07-07, we received additional reports of fuel leaks that have resulted in a number of engine in-flight shutdowns. This proposed AD would expand the applicability of AD 98-07-07 to include the RB211-535E4-C-37 turbofan engine. We are proposing this AD to prevent loss of fuel supply to the engine, which could lead to an in-flight shutdown of one or more engines, loss of thrust control, and damage to the airplane.

DATES: We must receive comments on this proposed AD by September 22, 2014.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Rolls-Royce plc, Corporate Communications, P.O. Box 31, Derby, England, DE248BJ; phone: 011-44-1332-242424; fax: 011-44-1332-249936; email: http://www.rolls-royce.com/contact/civil_team.jsp; Web site: https://www.aeromanager.com. You may view this service information at the FAA, Engine & Propeller Directorate, 12 New England Executive Park, Burlington, MA. For information on the availability of this material at the FAA, call 781-238-7125.

Examining the AD Docket

You may examine the AD docket on the Internet at http://www.regulations.gov by searching for and locating Docket No. FAA-2014-0433; or in person at the Docket Management Facility between 9 a.m. and 5 p.m., Monday through Friday, except Federal holidays. The AD docket contains this proposed AD, the mandatory continuing airworthiness information, the regulatory evaluation, any comments received, and other information. The address for the Docket Office (phone: 800-647-5527) is in the ADDRESSES section. Comments will be available in the AD docket shortly after receipt.

FOR FURTHER INFORMATION CONTACT: Kenneth Steeves, Aerospace Engineer, Engine Certification Office, FAA, Engine & Propeller Directorate, 12 New England Executive Park, Burlington, MA 01803; phone: 781-238-7765; fax: 781-238-7199; email: kenneth.steeves@faa.gov.

SUPPLEMENTARY INFORMATION:

Comments Invited

We invite you to send any written relevant data, views, or arguments about this proposed AD. Send your comments to an address listed under the ADDRESSES section. Include “Docket No. FAA-2014-0433; Directorate Identifier 94-ANE-39-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On April 2, 1998, we issued AD 98-07-07, Amendment 39-10426 (63 FR 18119, April 14, 1998), for all RR RB211-535E4 and RB211-535E4-B turbofan engines. AD 98-07-07 superseded AD 96-13-04 and required removing LP fuel system tube assemblies, P/N UL16692 and AE709623-1, and installing LP fuel system tube assembly, P/N 163521538. AD 98-07-07 resulted from reports of fuel line rupture on one of the flexible fuel tube assemblies installed in accordance with AD 96-13-04. We issued AD 98-07-07 to prevent high volume fuel leaks and reported fuel collection inside the engine nacelle, which could result in an uncontrolled engine fire.

Actions Since AD 98-07-07 Was Issued

Since we issued AD 98-07-07, Amendment 39-10426 (63 FR 18119, April 14, 1998), additional fuel leaks have occurred in LP fuel system tube assemblies resulting in engine in-flight shutdowns. Also since we issued AD 98-07-07, the European Aviation Safety Agency has issued AD 2014-0123, dated May 15, 2014, which requires replacing affected fuel tube assemblies.

Relevant Service Information

We reviewed RR Service Bulletin No. RB.211-73-H131, with Supplement, dated May 10, 2013 and RR Non-Modification Service Bulletin No. RB.211-73-E355, Revision 3, May 10, 2013. The service information describes procedures for removing and installing LP fuel system tube assemblies.

FAA's Determination

We are proposing this AD because we evaluated all the relevant information and determined the unsafe condition described previously is likely to exist or develop in other products of the same type design.

Proposed AD Requirements

This proposed AD would require removing LP fuel tube assemblies, P/N UL16692, AE709623-1, 163521538, and 163521545 from service.

Costs of Compliance

We estimate that this proposed AD affects 500 engines installed on airplanes of U.S. registry. We also estimate that it would take about 7.33 hours per engine to comply with this proposed AD. The average labor rate is $85 per hour. Required parts cost about $10,000 per engine. Based on these figures, we estimate the cost of this proposed AD on U.S. operators to be $5,311,525.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This proposed regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 98-07-07, Amendment 39-10426 (63 FR 18119, April 14, 1998), and adding the following new AD:

Rolls-Royce plc: Docket No. FAA-2014-0433; Directorate Identifier 94-ANE-39-AD.

(a) Comments Due Date

We must receive comments by September 22, 2014.

(b) Affected ADs

This AD supersedes AD 98-07-07, Amendment 39-10426 (63 FR 18119, April 14, 1998).

(c) Applicability

This AD applies to all Rolls-Royce plc (RR) RB211-535E4-37, RB211-535E4-B-37, and RB211-535E4-C-37 turbofan engines with low-pressure (LP) fuel filter-to-high-pressure (HP) fuel pump tube assembly, part number (P/N) UL16692, AE709623-1, 163521538, or 163521545, installed.

(d) Unsafe Condition

This AD was prompted by reports of fuel leaks that have resulted in a number of engine in-flight shutdowns. We are issuing this AD to prevent loss of fuel supply to the engine, which could lead to an in-flight shutdown of one or more engines, loss of thrust control, and damage to the airplane.

(e) Compliance

Comply with this AD within the compliance times specified, unless already done.

(1) After the effective date of this AD, remove from service all LP fuel filter-to-HP fuel pump tube assemblies, P/Ns UL16692, AE709623-1, 163521538, and 163521545, at the next part removal or during the next engine shop visit, whichever occurs first.

(2) Reserved.

(f) Definition

For the purpose of this AD, an “engine shop visit” is the induction of an engine into the shop for maintenance.

(g) Alternative Methods of Compliance (AMOCs)

The Manager, Engine Certification Office, may approve AMOCs for this AD. Use the procedures found in 14 CFR 39.19 to make your request.

(h) Related Information

(1) For more information about this AD, contact Kenneth Steeves, Aerospace Engineer, Engine Certification Office, FAA, Engine & Propeller Directorate, 12 New England Executive Park, Burlington, MA 01803; phone: 781-238-7765; fax: 781-238-7199; email: kenneth.steeves@faa.gov.

(2) Refer to MCAI European Aviation Safety Agency AD 2014-0123, dated May 15, 2014, for more information. You may examine the MCAI in the AD docket on the Internet at http://www.regulations.gov by searching for and locating it in Docket No. FAA-2014-0433.

(3) For service information identified in this AD, contact Rolls-Royce plc, Corporate Communications, P.O. Box 31, Derby, England, DE248BJ; phone: 011-44-1332-242424; fax: 011-44-1332-249936; email: http://www.rolls-royce.com/contact/civil_team.jsp; Web site: https://www.aeromanager.com.

(4) You may view this service information at the FAA, Engine & Propeller Directorate, 12 New England Executive Park, Burlington, MA. For information on the availability of this material at the FAA, call 781-238-7125.

Issued in Burlington, Massachusetts, on July 16, 2014.
Thomas Boudreau,
Acting Assistant Directorate Manager, Engine & Propeller Directorate, Aircraft Certification Service.

[FR Doc. 2014-17461 Filed 7-23-14; 8:45 am]

BILLING CODE 4910-13-P